DEPARTMENT OF COMMERCE

National Oceanic and Atmospheric Administration

RIN 0648-XD791

Caribbean Fishery Management Council: Scoping Meetings

AGENCY: National Marine Fisheries Service (NMFS), National Oceanic and Atmospheric Administration (NOAA), Commerce.

ACTION: Notice of scoping meetings on Caribbean Federal permits.

SUMMARY: The harvest activities of all fishing sectors must be understood to the greatest degree possible to assure that societal goals encompassed in the Magnuson-Stevens Fishery Conservation and Management Act are met. Thus, the need for timely, effective, and efficient means to monitor harvest from all sectors is fundamental. The goal of this Scoping Hearing is to allow the public to comment on the scoping document and to provide alternative options and ideas not yet considered by the Council and NMFS.

Dates and Addresses: Written comments can be sent to the Council not later than April 10th, 2015, by regular mail to the address below, or via email to graciela_cfmc@yahoo.com or Miguel.lugo@noaa.gov.

In Puerto Rico

March 11, 2015—7 p.m.-10 p.m.—Verdanza Hotel, Tartak St. Isla Verde Puerto Rico

March 25, 2015—7 p.m.-10 p.m.—Mayaguez Holiday Inn, 2701 Hostos Avenue, Mayagüez, Puerto Rico

In the U.S. Virgin Islands

March 16, 2015—7 p.m.-10 p.m.—The Buccaneer Hotel, Estate Shoys, Christiansted, St. Croix, U.S. Virgin Islands

March 18, 2015—7 p.m.-10 p.m.—Windward Passage Hotel, Charlotte Amalie, St. Thomas, U.S. Virgin Islands.

FOR FURTHER INFORMATION CONTACT: Caribbean Fishery Management Council, 270 Muñoz Rivera Avenue, Suite 401, San Juan, Puerto Rico 00918-1903, telephone: (787) 766-5926.

SUPPLEMENTARY INFORMATION: The Caribbean Fishery Management Council is considering establishing federal permits for fishing in the U.S. Caribbean exclusive economic zone (EEZ), and is conducting scoping meetings to obtain public comments regarding this matter.

Background

A permitting system provides a comprehensive method to achieve this goal. Permitting supports professionalization of individual fisheries, identifying and acknowledging those fishers dedicated to and reliant upon a specific component of the commercial fishery. Permits also allow for direct communication with fishing entities, enabling focused outreach and education opportunities.

A permitting system allows fishery scientists and managers to gather more accurate data, decreasing both scientific and management uncertainty. Scientific uncertainty can be mitigated to some degree by increasing knowledge of the fishery and the health of the fish populations that support that fishery. A permit system that identifies the universe of fishers operating within a fishing sector and allows tracking of the disposition and characteristics of harvested resources would substantially enhance knowledge of the fishery. Data derived from a comprehensive permit system would also contribute to reducing management uncertainty by providing better estimates of harvesting effort and the timing of harvest, thereby improving management design and responsiveness. More accurate and reliable catch data allows for more informed management.

The absence of a federal permit system, or mandatory federal reporting requirements, has been identified as a major contributor to the lack of fishing effort information in the U.S. Caribbean EEZ. A permitting system would allow better estimates for measuring fishing effort for the Council-managed fisheries while shedding light on the effectiveness of regulations implemented to manage that effort.

Some of the needs and Issues that a permitting system could address in the EEZ:

1. Provide accurate and timely data on landings.

2. Allow estimation of catch per unit of fishing effort.

3. Identify spatial and temporal trends in effort, including the relative importance of fishing to individual communities.

4. Manage competing interests for the resource.

5. Identify trends in the health of targeted fish stocks.

6. Quantify the socioeconomic importance of permitted fishing sectors and mitigate negative impacts of management to fishing communities.

7. Provide permitted fishers with a better understanding of their fishery and the opportunities and implications of management to that fishery.

There are many aspects to implementing fishing permits in the U.S. Caribbean exclusive economic zone (EEZ) and many options regarding the design of a permit system. Options for developing and designing a permit system include, but are not limited to:

1. Require commercial fishers to obtain a federal permit to fish in the U.S. Caribbean EEZ;

2. Require commercial fishers to obtain a commercial fishing license from either Puerto Rico or the U.S. Virgin Islands (USVI) to fish in the U.S. Caribbean EEZ;

3. Require commercial fishers to obtain a federal permit or a commercial fishing license from either Puerto Rico or the USVI to fish in the U.S. Caribbean EEZ

4. Require a species/species group/fishery-specific permit in the U.S. Caribbean EEZ;

5. Require a gear-specific permit in the U.S. Caribbean EEZ;

6. Require a dealer permit to purchase fish harvested from the U.S. Caribbean EEZ;

7. Conduct a pilot study with some or all fishers from some or all island groups to evaluate the practicality of permits in the U.S. Caribbean EEZ.

The goal of these scoping meetings is to allow the public to comment on the options listed above and to provide alternative options not yet considered by the Council and NMFS.

Copy of the Scoping Document to address the Development of Federal Permits in the U.S. Caribbean Exclusive Economic Zone can be found at http://sero.nmfs.noaa.gov/sustainable_fisheries/caribbean/index.html under Current Rule Making or and the Caribbean Council Web site at caribbeanfmc.com.

Special Accommodations

These meetings are physically accessible to people with disabilities. For more information or request for sign language interpretation and other auxiliary aids, please contact Mr. Miguel A. Rolón, Executive Director, Caribbean Fishery Management Council, 270 Muñoz Rivera Avenue, Suite 401, San Juan, Puerto Rico, 00918-1903, telephone (787) 766-5926, at least 5 days prior to the meeting date.

Dated: February 20, 2015.
Tracey L. Thompson,
Acting Deputy Director, Office of Sustainable Fisheries, National Marine Fisheries Service.

[FR Doc. 2015-03892 Filed 2-24-15; 8:45 am]

BILLING CODE 3510-22-P